FINANCIAL STABILITY OVERSIGHT COUNCIL

[Docket No. FSOC-2023-0001]

Analytic Framework for Financial Stability Risk Identification, Assessment, and Response

AGENCY: Financial Stability Oversight Council.

ACTION: Proposed analytic framework; extension of comment period.

SUMMARY: The Financial Stability Oversight Council (Council) is extending by 30 days the comment period on its proposed Analytic Framework for Financial Stability Risk Identification, Assessment, and Response. The comment period will now close on July 27, 2023.

DATES: Comment due date: July 27, 2023

ADDRESSES: You may submit comments by either of the following methods. All submissions must refer to the document title and docket number FSOC-2023-0001.

Electronic Submission of Comments: You may submit comments electronically through the Federal eRulemaking Portal at http://www.regulations.gov. Electronic submission of comments allows the commenter maximum time to prepare and submit a comment, ensures timely receipt, and enables the Council to make them available to the public. Comments submitted electronically through the http://www.regulations.gov website can be viewed by other commenters and interested members of the public. Commenters should follow the instructions provided on that site to submit comments electronically.

Mail: Send comments to Financial Stability Oversight Council, Attn: Eric Froman, 1500 Pennsylvania Avenue NW, Room 2308, Washington, DC 20220.

All properly submitted comments will be available for inspection and downloading at http://www.regulations.gov.

In general, comments received, including attachments and other supporting materials, are part of the public record and are available to the public. Do not submit any information in your comment or supporting materials that you consider confidential or inappropriate for public disclosure.

FOR FURTHER INFORMATION CONTACT: Eric Froman, Office of the General Counsel, Treasury, at (202) 622-1942; Devin Mauney, Office of the General Counsel, Treasury, at (202) 622-2537; or Carol Rodrigues, Office of the General Counsel, Treasury, at (202) 622-6127.

SUPPLEMENTARY INFORMATION: On April 28, 2023, the Council published in the Federal Register a proposed Analytic Framework for Financial Stability Risk Identification, Assessment, and Response (Proposed Analytic Framework), which describes the approach the Council expects to take in identifying, assessing, and responding to certain potential risks to U.S. financial stability.¹ Comments on the Proposed Analytic Framework were originally due on June 27, 2023.

¹ 88 FR 26305 (April 28, 2023).

The Council has received a request to extend the comment period to allow interested parties additional time to review and comment on the Proposed Analytic Framework. The Council is therefore extending the comment period on the Proposed Analytic Framework by 30 days to July 27, 2023.

Dated: June 21, 2023.
Sandra Lee,
Deputy Assistant Secretary, Financial Stability Oversight Council.

[FR Doc. 2023-13548 Filed 6-26-23; 8:45 am]

BILLING CODE 4810-AK-P-P